DEPARTMENT OF THE INTERIOR

Fish and Wildlife Service

Notice of Receipt of Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We, the U.S. Fish and Wildlife Service, solicit review and comment from local, State, and Federal agencies, and the public on the following permit requests.

DATES: Comments on these permit applications must be received on or before March 3, 2003, to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-062907

Applicant: Andrew Forde, Costa Mesa, California.

The applicant requests a permit to take (survey by pursuit) the Quino checkerspot butterfly (Euphydryas editha quino) in conjunction with surveys throughout the range of the species in California for the purpose of enhancing its survival.

Permit No. TE-066146

Applicant: Hugh Vance, Palm Springs, California.

The applicant requests a permit to take (collect and captively propagate) the desert pupfish (Cyprinodon macularius) in Riverside County, California for the purpose of enhancing its survival.

Permit No. TE-065925

Applicant: Raphael Mazor, Berkeley, California.

The applicant requests a permit to take (survey, collect, and sacrifice) the Conservancy fairy shrimp (Branchinecta conservatio) and the vernal pool fairy shrimp (Branchinecta lynchi), and take (capture and release) the vernal pool tadpole shrimp (Lepidurus packardi) in conjunction with genetic research, and dispersal and population demographics throughout the range of each species in California for the purpose of enhancing their survival.

Permit No. TE-066318

Applicant: Brian Knaus, Corvallis, Oregon.

The applicant requests a permit to reduce to possession the Astragalus lintiginosus var. coachellae (Coachella Valley milk-vetch) in conjunction with research in Riverside County, California for the purpose of enhancing its survival.

Permit No. TE-054802

Applicant: Anthony Adkins, Durango, Colorado.

The applicant requests a permit to take (survey by pursuit) the Quino checkerspot butterfly (Euphydryas editha quino) in conjunction with surveys throughout the range of the species in California for the purpose of enhancing its survival.

Permit No. TE-004939

Applicant: Gordon Pratt, Riverside, California.

The permittee requests an amendment to take (survey by pursuit, capture, captively propagate, and release) the Lotus blue butterfly (Lycaeides argyrognomon lotis) in conjunction with recovery efforts in Mendocino and Sonoma Counties, California for the purpose of enhancing its survival.

Permit No. TE-066455

Applicant: Scot A. Chandler, Murrieta, California.

The applicant requests a permit to take (survey by pursuit) the Quino checkerspot butterfly (Euphydryas editha quino) in conjunction with surveys throughout the range of the species in California for the purpose of enhancing its survival.

Permit No. TE-053777

Applicant: David Bise, Pasadena, California.

The permittee requests an amendment to take (survey by pursuit) the Quino checkerspot butterfly (Euphydryas editha quino) in conjunction with surveys throughout the range of the species in California for the purpose of enhancing its survival.

Permit No. TE-066457

Applicant: Kingsinger Environmental Consultants, Carlsbad, California.

The applicant requests a permit to take (survey by pursuit) the Quino checkerspot butterfly (Euphydryas editha quino) in conjunction with surveys throughout the range of the species in California for the purpose of enhancing its survival.

We solicit public review and comment on each of these recovery permit applications.

Dated: January 9, 2003.
William F. Shake,
Acting Regional Director, Region 1, U.S. Fish and Wildlife Service.

[FR Doc. 03-2278 Filed 1-30-03; 8:45 am]

BILLING CODE 4310-55-P